DEPARTMENT OF THE INTERIOR

Bureau of Indian Affairs

Notice of Availability of a Final Environmental Impact Statement and Final Conformity Determination for the Koi Nation of Northern California's Proposed Shiloh Resort and Casino Project, Sonoma County, California

AGENCY: Bureau of Indian Affairs, Interior.

ACTION: Notice of availability.

SUMMARY: This notice advises the public that the Bureau of Indian Affairs (BIA), as lead agency, with the National Indian Gaming Commission (NIGC) and United States Environmental Protection Agency (EPA) serving as cooperating agencies, has filed a Final Environmental Impact Statement (FEIS) with the EPA in connection with the Koi Nation of Northern California's (Koi Nation) application for acquisition in trust by the United States of approximately 68.60 acres adjacent to the Town of Windsor, Sonoma County, California for gaming and other purposes.

DATES: The Record of Decision for the proposed action will be issued on or after 30 days from the date the EPA publishes its Notice of Availability in the Federal Register. The BIA must receive any comments on the FEIS before that date.

ADDRESSES: You may send written comments by any of the following methods:

• Mail or hand-delivery: Amy Dutschke, Regional Director, Bureau of Indian Affairs, Pacific Region, 2800 Cottage Way, Sacramento, California 95825. Please include your name, return address, and “FEIS Comments, Shiloh Resort and Casino Project” on the first page of your written comments.

• Email: Chad Broussard, Environmental Protection Specialist, Bureau of Indian Affairs, at chad.broussard@bia.gov using “FEIS Comments, Shiloh Resort and Casino Project” as the subject of your email.

FOR FURTHER INFORMATION CONTACT: Chad Broussard, Environmental Protection Specialist, Bureau of Indian Affairs, Pacific Regional Office, 2800 Cottage Way, Room W-2820, Sacramento, California 95825; telephone: (916) 978-6165; email: chad.broussard@bia.gov. Information is also available online at https://www.shilohresortenvironmental.com/.

SUPPLEMENTARY INFORMATION: The BIA previously prepared an EA that analyzed the potential environmental effects of the proposed action. The EA was made available for public comments from September 12, 2023, through November 13, 2023, providing for a total of 60 days to submit comments on the EA. Upon consideration of the public and agency comments received, the BIA decided to prepare an EIS to further analyze the environmental effects which may result from the proposed action. A Notice of Intent (NOI) to prepare an EIS was published in the Federal Register and The Press Democrat on March 8, 2024. A Notice of Availability (NOA) was published in the Federal Register by the BIA on July 8, 2024 (89 FR 55968) and the EPA on July 12, 2024 (89 FR 57150). The Draft EIS was made available for a 45-day public comment period beginning July 12, 2024, and ending on August 26, 2024. A public meeting was held July 30, 2024, to collect verbal comments. In accordance with section 176 of the Clean Air Act and the EPA's general conformity regulations, a Draft Conformity Determination has been prepared for the Shiloh Resort and Casino Project. The Final Conformity Determination is contained within appendix F-2 of the FEIS.

Background

The following alternatives are considered in the FEIS: (A) Proposed Project; (B) Reduced Intensity Alternative; (C) Non-Gaming Alternative; and (D) No Action Alternative. The BIA has selected Alternative A, the Proposed Project as the Preferred Alternative as discussed in the FEIS.

Environmental issues addressed in the FEIS include land resources; water resources; air quality and climate change; noise; biological resources; cultural and paleontological resources; transportation and circulation; land use; hazardous materials and hazards; public services and utilities; socioeconomics; environmental justice; visual resources; and cumulative, indirect, and growth-inducing effects.

The information and analysis contained in the FEIS, as well as its evaluation and assessment of the Preferred Alternative, will assist the Department in its review of the issues presented in the Tribe's application. Selection of the Preferred Alternative does not indicate the Department's final decision because the Department must complete its review process. The Department's review process consists of (1) issuing the notice of availability of the FEIS; (2) issuing a Record of Decision no sooner than 30 days following publication of a Notice of Availability of the FEIS by the EPA in the Federal Register; and (3) transfer of the approximately 68.60 acres into trust.

Locations where the FEIS is Available for Review: The FEIS is available for review at https://www.shilohresortenvironmental.com/, Bureau of Indian Affairs, Pacific Region, 2800 Cottage Way, Sacramento, California 95825 (with advance notice and during regular business hours), and Windsor Regional Library located at 9291 Old Redwood Hwy. #100, Windsor, CA 95492, telephone (707) 838-1020 (during regular business hours). Contact information is listed in the FOR FURTHER INFORMATION CONTACT section of this notice.

Public Comment Availability: Comments, including names and addresses of respondents, will be included as part of the administrative record and responses to comments on the Final EIS. Before including your address, phone number, email address, or other personal identifying information in your comment, you should be aware that your entire comment—including your personal identifying information—may be made publicly available at any time. While you can ask in your comment that your personal identifying information be withheld from public review, the BIA cannot guarantee that this will occur.

Authority

This notice is published pursuant to section 1503.1 of the Council of Environmental Quality Regulations (40 CFR parts 1500 through 1508) and section 46.305 of the Department of the Interior Regulations (43 CFR part 46), implementing the procedural requirements of the NEPA, as amended (42 U.S.C. 4371, et seq.), and in accordance with the exercise of authority delegated to the Assistant Secretary—Indian Affairs by 209 DM 8. This notice is also published in accordance with 40 CFR 93.155, which provides reporting requirements for conformity determinations.

Wizipan Garriott,
Principal Deputy Assistant Secretary—Indian Affairs, Exercising by Delegation the Authority of the Assistant Secretary—Indian Affairs.

[FR Doc. 2024-27430 Filed 11-21-24; 8:45 am]

BILLING CODE 4337-15-P